BUREAU OF CONSUMER FINANCIAL PROTECTION

Privacy Act of 1974, as Amended

AGENCY: Bureau of Consumer Financial Protection.

ACTION: Notice of Proposed Privacy Act System of Records.

SUMMARY: In accordance with the Privacy Act of 1974, as amended, the Bureau of Consumer Financial Protection, herein referred to as the Consumer Financial Protection Bureau (“CFPB” or “Bureau”), gives notice of the establishment of a Privacy Act System of Records.

DATES: Comments must be received no later than May 23, 2012. The new system of records will be effective June 4, 2012 unless the comments received result in a contrary determination.

ADDRESSES: You may submit comments by any of the following methods:

• Electronic: privacy@cfpb.gov.

• Mai/Hand Delivery/Courier: Claire Stapleton, Chief Privacy Officer, Consumer Financial Protection Bureau, 1700 G Street NW., Washington, DC 20552.

Comments will be available for public inspection and copying at 1700 G Street NW., Washington, DC 20552 on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The Dodd-Frank Wall Street Reform and Consumer Protection Act (“Act”), Public Law No. 111-203, Title X, established the CFPB to administer and enforce the federal consumer financial protection laws. The CFPB will maintain the records covered by this notice.

The new system of records described in this notice, CFPB.014—Direct Registration and User Management System, will be used to provide authorized individuals, including CFPB employees and members of the public who have business with the Bureau, access to or interaction with CFPB information technology resources. A description of the new system of records follows this Notice.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “CFPB.014—CFPB Direct Registration and User Management System”, is published in its entirety below.

Dated: April 16, 2012.
Claire Stapleton,
Chief Privacy Officer.

CFPB.014

System Name:

Direct Registration and User Management System.

System Location:

Consumer Financial Protection Bureau, 1700 G St NW., Washington, DC 20552.

Categories of individuals covered by the system:

Categories of individuals covered by this system include all persons who are authorized to access CFPB information technology resources, including without limitation: (1) Employees, contractors, and any lawfully designated representative of the above, including representatives of Federal, State, territorial, tribal, or local government agencies or entities, in furtherance of the CFPB's mission; (2) individuals who have business with the CFPB and who have provided personal information in order to facilitate access to CFPB information technology resources; and (3) individuals who are points of contact provided for government business, operations, or programs, and the individuals they list as emergency or other contacts.

Categories of records in the system:

Records in the system may contain data relating to individuals, including but not limited to: name; business and affiliations, including verification of affiliation; facility; positions held; telephone numbers, including business and cellular, home numbers, and numbers where individuals can be reached while on travel or otherwise away from the office; level of access; home or other provided address for the receipt of issued IT equipment or resources; email addresses of senders and recipients; records of access to CFPB or Treasury computers and networks including equipment issued, user ID and passwords, date(s) and time(s) of access, IP address of access, logs of internet activity and records on the authentication of the access request; records of identity management related to individual user's request including universal resource locator of individual's chosen identity assurance certificate provider and response from certificate provider of positive or negative authentication; and positions or titles of contacts, their business or organizational affiliations, and other contact information provided to the Bureau that is derived from other sources to facilitate authorized access to CFPB Information Technology resources.

The information in this system includes information relating to system access and does not include the data held within the systems or information technology resources to which access or interaction is sought.

Authority for maintenance of the system:

Public Law 111-203, Title X, Section 1012, codified at 12 U.S.C. 5492.

Purpose(s):

The information in the system is being collected to enable the CFPB to provide authorized individuals access to CFPB information technology resources.

The system enables the CFPB to maintain: account information required for approved access to information technology; lists of individuals seeking or receiving access to CFPB information technology or equipment; lists of individuals who are appropriate organizational points of contact; and lists of individuals who are emergency points of contact. The system will also enable the CFPB to provide individuals access to certain programs and meeting attendance and where appropriate allow for sharing of information between individuals in the same operational program to facilitate collaboration.

Routine uses of records maintained in the system, including categories of users and the purposes of such uses:

These records may be disclosed, consistent with the CFPB's Rules for the Disclosure of Records and Information, promulgated at 12 CFR part 1070 et seq., to:

(1) Appropriate agencies, entities, and persons when: (a) The CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to: (a) permit a decision as to access, amendment or correction of records to be made in consultation with or by that agency; or (b) verify the identity of an individual or the accuracy of information submitted by an individual who has requested access to, or amendment or correction of record;

(3) The Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components;

(7) A grand jury pursuant either to a federal or state grand jury subpoena, or to a prosecution request that such record be released for the purpose of its introduction to a grand jury, where the subpoena or request has been specifically approved by a court. In those cases where the Federal Government is not a party to the proceeding, records may be disclosed if a subpoena has been signed by a judge;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings; and

(9) Appropriate federal, state, local, foreign, tribal, or self-regulatory organization or agency responsible for investigating, prosecuting, enforcing, implementing, issuing, or carrying out a statute, rule, regulation, order, policy, or license if the information may be relevant to a potential violation of civil or criminal law, rule, regulation, order, policy or license.

Policies and practices for storing, retrieving, accessing, retaining, and dispensing of records in the system:

Storage:

Paper and electronic records.

Retrievability:

Records are retrievable by a variety of fields including, without limitation, the individual's name, address, account number, phone number or email address, or by some combination thereof.

Safeguards:

Access to electronic records is restricted to authorized personnel who have been issued non-transferrable access codes and passwords. Other records are maintained in locked file cabinets or rooms with access limited to those personnel whose official duties require access.

System manager(s) and address:

Consumer Financial Protection Bureau, Chief Information Officer, 1700 G Street NW., Washington, DC 20552.

Retention and disposal:

The CFPB will maintain computer and paper records indefinitely until the National Archives and Records Administration approves the CFPB's records disposition schedule.

Notification procedure:

Individuals seeking notification and access to any record contained in this system of records, or seeking to contest its content, may inquire in writing in accordance with instructions appearing in Title 12, Chapter 10 of the CFR, “Disclosure of Records and Information.” Address such requests to: Chief Privacy Officer, Bureau of Consumer Financial Protection, 1700 G Street NW., Washington, DC 20552.

Record access procedures:

See “Notification Procedures” above.

Contesting record procedures:

See “Notification Procedures” above.

Record source categories:

Information in this system is obtained from individuals and entities associated with or granted access to CFPB information technology resources.

Exemptions claimed for the system:

None.

[FR Doc. 2012-9668 Filed 4-20-12; 8:45 am]

BILLING CODE 4810-AM-P